FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 18, 2012.

A. Federal Reserve Bank of Dallas (E. Ann Worthy, Vice President), 2200 North Pearl Street, Dallas, Texas 75201-2272:

1. Rebecca Watson Vizard, St. Joseph Louisiana; Michael Rene Vizard, St. Joseph, Louisiana; Sarah Scott Vizard, New Orleans, Louisiana; Michael Ross Vizard, Nashville, Tennessee; and William Wade Watson, St. Joseph, Louisiana, (collectively known as the “Vizard Family Group”) to retain of the shares of, and thereby control of, BSJ Bancshares, Inc., St. Joseph, Louisiana, and indirectly control Cross Keys Bank, St. Joseph, Louisiana.

Dated: Board of Governors of the Federal Reserve System, August 30, 2012.
Margaret Shanks,
Associate Secretary and Ombudsman.

[FR Doc. 2012-21808 Filed 9-4-12; 8:45 am]

BILLING CODE 6210-01-P